SECURITIES AND EXCHANGE COMMISSION

[File No. 500-1]

In the Matter of NetAir.com, Inc.; Order of Suspension of Trading

April 2, 2002.

It appears to the Securities and Exchange Commission that there is a lack of current and accurate information concerning the securities of NetAir.com, Inc. (“NetAir”), a Nevada corporation headquartered in Salt Lake City, Utah. Questions have been raised regarding the accuracy of assertions by NetAir, and by others, in its annual report filed on Form 10-KSB for the period ended December 31, 2001, and in press releases concerning, among other things: (1) Netair's ability to commence business operations; (2) the qualifications of NetAir's secretary, Robert Waddell, to perform aircraft appraisals, Netair's purported core business; and (3) the identity of the persons in control of the operations and management of the company.

The Commission is of the opinion that the public interest and the protection of investors require a suspension of trading in the securities of the above listed company.

Therefore, it is ordered, pursuant to Section 12(k) of the Securities Exchange Act of 1934, that trading in the above listed company is suspended for the period from 9:30 a.m. EST on April 2, 2002, through 11:59 p.m. EST on April 15, 2002.

By the Commission.
Jill M. Peterson,
Assistant Secretary.

[FR Doc. 02-8242 Filed 4-2-02; 2:02 pm]

BILLING CODE 8010-01-P